DEPARTMENT OF HEALTH AND HUMAN SERVICES

National Institutes of Health

National Library of Medicine; Notice of Closed Meeting

Pursuant to section 10(d) of the Federal Advisory Committee Act, as amended (5 U.S.C. Appendix 2), notice is hereby given of the following meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Library of Medicine Special Emphasis Panel; FIC International Training for Global Health

Date: February 2-3, 2004

Time: February 2, 2004, 8 a.m. to 5 p.m.

Agenda: To review and evaluate grant applications

Place: Embassy Suites at the Chevy Chase Pavilion, 4300 Military Road, NW., Washington, DC 20015.

Time: February 3, 2004, 8 a.m. to 3 p.m.

Agenda: To review and evaluate grant applications

Place: Embassy Suites at the Chevy Chase Pavilion, 4300 Military Road, N.W., Washington, DC 20015.

Contact Person: Hua-Chuan Sim, MD, Scientific Review Administrator, National Library of Medicine, Extramural Programs, Bethesda, MD 20892.

(Catalogue of Federal Domestic Assistance Program Nos. 93.306, Comparative Medicine; 93.333, Clinical Research, 93.306, 93.333, 93,337, 93.393-93.396, 93.837-93.844, 93.846-93.878, 93.892, National Institutes of Health, HHS)

Dated: December 24, 2003.
Anna Snouffer,
Acting Director, Office of Federal Advisory Committee Policy.

[FR Doc. 03-32307 Filed 12-31-03; 8:45 am]

BILLING CODE 4140-01-M